DEPARTMENT OF THE INTERIOR

National Park Service

[NPS-WASO-NAGPRA-NPS0032968; PPWOCRADN0-PCU00RP14.R50000]

Notice of Inventory Completion: Boston University, Boston, MA

AGENCY: National Park Service, Interior.

ACTION: Notice.

SUMMARY: Boston University has completed an inventory of human remains, in consultation with the appropriate Indian Tribes or Native Hawaiian organizations and has determined that there is no cultural affiliation between the human remains and any present-day Indian Tribes or Native Hawaiian organizations. Representatives of any Indian Tribe or Native Hawaiian organization not identified in this notice that wish to request transfer of control of these human remains should submit a written request to Boston University. If no additional requestors come forward, transfer of control of the human remains to the non-Federally recognized Indian group stated in this notice may proceed.

DATES: Representatives of any Indian Tribe or Native Hawaiian organization not identified in this notice that wish to request transfer of control of these human remains should submit a written request with information in support of the request to Boston University at the address in this notice by December 8, 2021.

FOR FURTHER INFORMATION CONTACT: Kathryn M. Mellouk, Associate Vice President for Research Compliance, Boston University, One Silber Way, 9th floor, Boston, MA 02215, telephone (617) 358-4730, email kateski@bu.edu.

SUPPLEMENTARY INFORMATION: Notice is here given in accordance with the Native American Graves Protection and Repatriation Act (NAGPRA), 25 U.S.C. 3003, of the completion of an inventory of human remains under the control of Boston University, Boston, MA. The human remains were removed from Grafton, Worcester County, MA, and from an unknown geographic location.

This notice is published as part of the National Park Service's administrative responsibilities under NAGPRA, 25 U.S.C. 3003(d)(3) and 43 CFR 10.9(e). The determinations in this notice are the sole responsibility of the museum, institution, or Federal agency that has control of the Native American human remains. The National Park Service is not responsible for the determinations in this notice.

Consultation

A detailed assessment of the human remains was made by Boston University professional staff in consultation with representatives of the Mashantucket Pequot Indian Tribe [previously listed as Mashantucket Pequot Tribe of Connecticut]; Mashpee Wampanoag Tribe [previously listed as Mashpee Wampanoag Indian Tribal Council, Inc.]; Mohegan Tribe of Indians of Connecticut [previously listed as Mohegan Indian Tribe of Connecticut]; Narragansett Indian Tribe; Seminole Tribe of Florida [previously listed as Seminole Tribe of Florida (Dania, Big Cypress, Brighton, Hollywood, & Tampa Reservations)]; Stockbridge Munsee Community, Wisconsin; Wampanoag Tribe of Gay Head (Aquinnah); and the Nipmuc Nation, Hassanamisco Band, a non-federally recognized Indian group recognized by the Commonwealth of Massachusetts. An invitation to consult was extended to the Miccosukee Tribe of Indians and The Seminole Nation of Oklahoma but they did not participate. Hereafter, all the Indian Tribes and the non-federally recognized Indian group listed in this section are referred to as “The Consulted and Notified Tribes and Group.”

History and Description of the Remains

On an unknown date, human remains representing, at minimum, one individual were removed from Grafton, Worcester County, MA. In the spring of 2019, the human remains were found in a Boston University Archaeology Program collections storage area. No known individual was identified. No associated funerary objects are present. At the time of the excavation and removal of these human remains, the land from which the human remains were removed was not the tribal land of any Indian Tribe or Native Hawaiian organization. Boston University consulted with all Indian Tribes who are recognized as aboriginal to the area from which these Native American human remains were removed. These Tribes are the Mashantucket Pequot Indian Tribe [previously listed as Mashantucket Pequot Tribe of Connecticut]; Mashpee Wampanoag Tribe [previously listed as Mashpee Wampanoag Indian Tribal Council, Inc.]; Mohegan Tribe of Indians of Connecticut [previously listed as Mohegan Indian Tribe of Connecticut]; Narragansett Indian Tribe; Stockbridge Munsee Community, Wisconsin; and Wampanoag Tribe of Gay Head (Aquinnah) (hereafter listed as “The Aboriginal Land Tribes”). None of The Aboriginal Land Tribes agreed to accept control of the human remains.

On an unknown date, human remains representing, at minimum, one individual were removed from an unknown geographic location by an unknown individual. In January of 2020, the human remains, which had been housed in the University's Archaeology Program teaching facility lab, were identified as Native American. No known individual was identified. No associated funerary objects are present. Based on the available information, the land from which these human remains were removed is not the “tribal land” of an Indian Tribe or a Native Hawaiian organization, or the “aboriginal land” of an Indian Tribe pursuant to 43 CFR 10.11.

Pursuant to 25 U.S.C. 3006(c)(5) and 43 CFR 10.10(g)(2)(ii), 10.11(c)(2)(ii)(A), and 10.16(a), the Native American Graves Protection and Repatriation Review Committee (Review Committee) may make a recommendation to the Secretary of the Interior (Secretary) for specific actions for disposition of these human remains and associated funerary objects, including transfer of control to a non-federally recognized Indian group. In June 2021, Boston University requested that the Review Committee consider a proposal to transfer control of the human remains described in this notice to the Nipmuc Nation, Hassanamisco Band, a non-federally recognized Indian group recognized by the Commonwealth of Massachusetts. The Review Committee carefully considered this request at its July 13, 2021 meeting and recommended to the Secretary that the proposed transfer of control proceed. An October 19, 2021 letter transmitted the Secretary's independent review and concurrence with the Review Committee that:

• Boston University consulted with every appropriate Indian Tribe,

• none of The Aboriginal Land Tribes agreed to accept control of the human remains from Grafton, Worcester County, MA,

• none of The Aboriginal Land Tribes objected to the proposed transfer of control to the Nipmuc Nation, Hassanamisco Band, and

• Boston University may proceed with the agreed-upon transfer of control of the human remains to the Nipmuc Nation, Hassanamisco Band, a non-federally recognized Indian group recognized by the Commonwealth of Massachusetts.

Transfer of control is contingent on the publication of a Notice of Inventory Completion in the Federal Register. This notice fulfills that requirement.

Determinations Made by Boston University

Officials of Boston University have determined that:

• Pursuant to 25 U.S.C. 3001(9), the human remains described in this notice are Native American based on biological evidence.

• Pursuant to 25 U.S.C. 3003(e), the human remains described in this notice represent the physical remains of two individuals of Native American ancestry.

• Pursuant to 25 U.S.C. 3001(2), a relationship of shared group identity cannot be reasonably traced between the Native American human remains and any present-day Indian Tribe.

• Pursuant to 43 CFR 10.11, the one individual removed from Grafton, Worcester County, MA, was removed from the “aboriginal land” of Indian Tribes, but none of those Indian Tribes agreed to accept control of the human remains, and none of those Indian Tribes objected to the proposed transfer of control of the human remains to the Nipmuc Nation, Hassanamisco Band, a non-federally recognized Indian group.

• Pursuant to 43 CFR 10.11, the one individual removed from an unknown location was not removed from the “tribal land” of any Indian Tribe or Native Hawaiian organization, or the “aboriginal land of any Indian Tribe.

• Pursuant to 43 CFR 10.10(g)(2)(ii), 10.11(c)(2)(ii), and 10.16, the disposition of the human remains will be to the Nipmuc Nation, Hassanamisco Band, a non-federally recognized Indian group recognized by the Commonwealth of Massachusetts.

Additional Requestors and Disposition

Representatives of any Indian Tribe or Native Hawaiian organization not identified in this notice that wish to request transfer of control of these human remains should submit a written request with information in support of the request to Kathryn M. Mellouk, Associate Vice President for Research Compliance, Boston University, One Silber Way, 9th floor, Boston, MA 02215, telephone (617) 358-4730, email kateski@bu.edu, by December 8, 2021. After that date, if no additional requestors have come forward, transfer of control of the human remains to the Nipmuc Nation, Hassanamisco Band, a non-federally recognized Indian group recognized by the Commonwealth of Massachusetts, may proceed.

Boston University is responsible for notifying The Consulted and Notified Tribes and Group, that this notice has been published.

Dated: October 29, 2021.
Melanie O'Brien,
Manager, National NAGPRA Program.

[FR Doc. 2021-24313 Filed 11-5-21; 8:45 am]

BILLING CODE 4312-52-P